DEPARTMENT OF STATE

[Public Notice 6895]

Culturally Significant Objects Imported for Exhibition Determinations: “Fiery Pool: The Maya and the Mythic Sea”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the objects to be included in the exhibition “Fiery Pool: The Maya and the Mythic Sea,” imported from abroad for temporary exhibition within the United States, are of cultural significance. The objects are imported pursuant to loan agreements with the foreign owners or custodians. I also determine that the exhibition or display of the exhibit objects at the Peabody Essex Museum, Salem, MA, from on or about March 27, 2010, until on or about July 18, 2010; the Kimbell Art Museum, Fort Worth, TX, from on or about August 29, 2010, until on or about January 2, 2011; the Saint Louis Art Museum, St. Louis, MO, from on or about February 13, 2011, until on or about May 8, 2011, and possible additional exhibitions or venues yet to be determined, is in the national interest. I have ordered that Public Notice of these Determinations be published in the Federal Register.

FOR FURTHER INFORMATION CONTACT: For further information, including a list of the exhibit objects, contact Julie Simpson, Attorney-Adviser, Office of the Legal Adviser, U.S. Department of State (telephone: 202-632-6467). The mailing address is U.S. Department of State, SA-5, L/PD, Fifth Floor (Suite 5H03), Washington, DC 0522-0505.

Dated: February 1, 2010.
Maura M. Pally,
Deputy Assistant Secretary for Professional and Cultural Exchanges, Bureau of Educational and Cultural Affairs, Department of State.

[FR Doc. 2010-2692 Filed 2-5-10; 8:45 am]

BILLING CODE 4710-05-P